NATIONAL AERONAUTICS AND SPACE ADMINISTRATION

[Notice (11-022)]

NASA Advisory Council; Science Committee; Astrophysics Subcommittee; Meeting

AGENCY: National Aeronautics and Space Administration.

ACTION: Notice of meeting.

SUMMARY: In accordance with the Federal Advisory Committee Act, Public Law 92-463, as amended, the National Aeronautics and Space Administration (NASA) announces a meeting of the Astrophysics Subcommittee of the NASA Advisory Council (NAC). This Subcommittee reports to the Science Committee of the NAC. The Meeting will be held for the purpose of soliciting from the scientific community and other persons scientific and technical information relevant to program planning.

DATES: Thursday, April 7, 2011, 2 p.m. to 4 p.m., Local Time.

ADDRESSES: This meeting will take place telephonically and by WebEx. Any interested person may call the USA toll free conference call number 888-469-1171 or toll number 630-395-0075, pass code APS, to participate in this meeting by telephone. The WebEx link is https://nasa.webex.com, meeting number 990 150 191, and password APSApril7-2011.

SUPPLEMENTARY INFORMATION: The meeting will be open to the public. The agenda for the meeting includes the following topic:

—Astrophysics Division Update.

It is imperative that the meeting be held on these dates to accommodate the scheduling priorities of the key participants.

Dated: March 9, 2011.
P. Diane Rausch,
Advisory Committee Management Officer, National Aeronautics and Space Administration.

[FR Doc. 2011-6013 Filed 3-14-11; 8:45 am]

BILLING CODE 7510-13-P